FEDERAL MARITIME COMMISSION

Sunshine Act; Notice of Meeting

Date: October 21, 2009-10 a.m.

Place: 800 North Capitol Street, NW., First Floor Hearing Room, Washington, DC.

Status: A portion of the meeting will be in Open Session and the remainder of the meeting will be in Closed Session.

Matters to be Considered:

Open Session

1. Discussion of Court of Appeals Mandate in Landstar.

2. Briefing on Conclusion of FY 2009 Budget.

Closed Session

1. World Chance Logistics (Hong Kong).

2. Lindblad Expeditions, Inc.—Evidence of Financial Responsibility.

3. Staff Briefing Regarding Global Economic Downturn and Potential Impact on Stakeholders.

Contact Person for More Information: Karen V. Gregory, Secretary, (202) 523-5725.

Karen V. Gregory,
Secretary.

[FR Doc. E9-25065 Filed 10-14-09; 4:15 pm]

BILLING CODE P